DEPARTMENT OF THE TREASURY

Internal Revenue Service

26 CFR Part 1

[TD 9094]

RIN 1545-BC01

Return of Partnership Income

Correction

In rule document 03-28190 beginning on page 63733 in the issue of Monday, November 10, 2003, make the following corrections:

§ 1.6031(a)-1 [Corrected]

1. On page 63734, in the first column, in § 1.6031(a)-1(f), in the fourth line, “that’” should read “that-”.

§ 1.6031(a)-1T [Corrected]

2. On the same page, in the same column, in § 1.6031(a)-1T(a)(3)(ii), in the fourth line, “§ 601.601(d)(2)(ii)(b)” should read “§ 601.601(d)(2)(ii)(b)”.

[FR Doc. C3-28190 Filed 12-17-03; 8:45 am]

BILLING CODE 1505-01-D